DEPARTMENT OF DEFENSE

Office of the Secretary

Department of Defense Wage Committee; Notice of Federal Advisory Committee Meeting

AGENCY: Under Secretary of Defense for Personnel and Readiness (USD(P&R)), Department of Defense (DoD).

ACTION: Notice of closed federal advisory committee meeting.

SUMMARY: The DoD is publishing this notice to announce that the following Federal Advisory Committee meeting of the DoD Wage Committee will take place.

DATES: Tuesday, November 25, 2025, from 10:00 a.m. to 1:00 p.m. and will be closed to the public.

ADDRESSES: The closed meeting will be held by Microsoft Teams.

FOR FURTHER INFORMATION CONTACT: Mr. Karl Fendt, Designated Federal Officer (DFO) (571) 372-1618 (voice), karl.h.fendt.civ@mail.mil. (email), 4800 Mark Center Drive, Suite 05G21, Alexandria, Virginia 22350 (mailing address). Any agenda updates can be found at the DoD Wage Committee's official website: https://wageandsalary.dcpas.osd.mil/BWN/DoDWC/.

SUPPLEMENTARY INFORMATION: These meetings are being held under the provisions of chapter 10 of title 5, United States Code (U.S.C.) (commonly known as the “Federal Advisory Committee Act” or “FACA”), subsection 552b(c) of title 5, U.S.C., and 41 CFR 102-3.140 and 102-3.155.

Purpose of the Meeting: The purpose of these meetings is to provide independent advice and recommendations on matters relating to the conduct of wage surveys and the establishment of wage schedules for all appropriated fund and non-appropriated fund areas of blue-collar employees within the DoD.

Agenda

November 25, 2025

Opening Remarks by Chair, Mr. Eric Clayton, and DFO, Mr. Karl Fendt.

Reviewing survey results and/or survey specifications for the following Nonappropriated Fund areas:

1. Any items needing further clarification or action from the previous meeting.

2. Wage Schedule (Full Scale) for the Monroe, Florida wage area (AC-160).

3. Wage Schedule (Wage Change) for the Orange, Florida wage area (AC-062).

4. Wage Schedule (Wage Change) for the Bay, Florida wage area (AC-063).

5. Survey Specifications for the Orleans, Louisiana wage area (AC-006).

6. Survey Specifications for the McLennan, Texas wage area (AC-022).

7. Survey Specifications for the Bell, Texas wage area (AC-028).

8. Survey Specifications for the Curry, New Mexico wage area (AC-030).

9. Survey Specifications for the Tom Green, Texas wage area (AC-032).

10. Survey Specifications for the Cobb, Georgia wage area (AC-034).

11. Survey Specifications for the Houston, Georgia wage area (AC-036).

12. Survey Specifications for the Cascade, Montana wage area (AC-040).

13. Survey Specifications for the Montgomery, Alabama wage area (AC-048).

14. Survey Specifications for the Columbus, Georgia wage area (AC-067).

15. Survey Specifications for the Jefferson, New York wage area (AC-101).

16. Survey Specifications for the Orange, New York wage area (AC-103).

17. Survey Specifications for the Macomb, Michigan wage area (AC-162).

18. Survey Specifications for the Niagara, New York wage area (AC-163).

19. Wage Schedule (Full Scale) for the Sacramento, California wage area (AC-002).

20. Wage Schedule (Full Scale) for the San Joaquin, California wage area (AC-008).

21. Wage Schedule (Full Scale) for the Bernalillo, New Mexico wage area (AC-019).

22. Wage Schedule (Full Scale) for the Dona Ana, New Mexico wage area (AC-021).

23. Wage Schedule (Full Scale) for the El Paso, Texas wage area (AC-023).

24. Wage Schedule (Wage Change) for the Onslow, North Carolina wage area (AC-097).

25. Wage Schedule (Wage Change) for the Shelby, Tennessee wage area (AC-098).

26. Wage Schedule (Wage Change) for the Christian, Kentucky/Montgomery, Tennessee wage area (AC-099).

27. Wage Schedule (Wage Change) for the Charleston, South Carolina wage area (AC-120).

28. Wage Schedule (Wage Change) for the San Juan-Guaynabo, Puerto Rico wage area (AC-155).

29. Survey Specifications for the Grand Forks, North Dakota wage area (AC-017).

30. Survey Specifications for the Davis-Weber-Salt Lake, Utah wage area (AC-018).

31. Survey Specifications for the Ada-Elmore, Idaho wage area (AC-038).

32. Survey Specifications for the Spokane, Washington wage area (AC-043).

33. Survey Specifications for the Burlington, New Jersey wage area (AC-071).

34. Survey Specifications for the Kent, Delaware wage area (AC-076).

35. Survey Specifications for the Richmond-Chesterfield, Virginia wage area (AC-082).

36. Survey Specifications for the Morris, New Jersey wage area (AC-090).

37. Wage Schedule (Full Scale) for the Lauderdale, Mississippi wage area (AC-001).

38. Wage Schedule (Full Scale) for the Lowndes, Mississippi wage area (AC-004).

39. Wage Schedule (Full Scale) for the Rapides, Louisiana wage area (AC-024).

40. Wage Schedule (Full Scale) for the Caddo-Bossier, Louisiana wage area (AC-025).

41. Wage Schedule (Full Scale) for the Chatham, Georgia wage area (AC-037).

42. Wage Schedule (Full Scale) for the Dougherty, Georgia wage area (AC-046).

43. Wage Schedule (Wage Change) for the Oklahoma, Oklahoma wage area (AC-052).

44. Wage Schedule (Wage Change) for the Harrison, Mississippi wage area (AC-070).

45. Wage Schedule (Wage Change) for the Hardin-Jefferson, Kentucky wage area (AC-096).

46. Wage Schedule (Wage Change) for the Wayne, North Carolina wage area (AC-107).

47. Wage Schedule (Wage Change) for the Cumberland, North Carolina wage area (AC-108).

48. Wage Schedule (Wage Change) for the Richland, South Carolina wage area (AC-110).

49. Wage Schedule (Wage Change) for the Wichita, Texas wage area (AC-122).

50. Wage Schedule (Wage Change) for the Comanche, Oklahoma wage area (AC-123).

51. Wage Schedule (Wage Change) for the Craven, North Carolina wage area (AC-164).

52. Survey Specifications for the Monterey, California wage area (AC-003).

53. Survey Specifications for the Kern, California wage area (AC-010).

54. Survey Specifications for the San Diego, California wage area (AC-054).

55. Survey Specifications for the Solano, California wage area (AC-059).

56. Wage Schedule (Full Scale) for the Richmond, Georgia wage area (AC-035).

57. Wage Schedule (Full Scale) for the Houston, Georgia wage area (AC-036).

58. Wage Schedule (Full Scale) for the Pulaski, Arkansas wage area (AC-045).

59. Wage Schedule (Full Scale) for the Montgomery, Alabama wage area (AC-048).

60. Wage Schedule (Full Scale) for the Sedgwick, Kansas wage area (AC-078).

61. Wage Schedule (Full Scale) for the Montgomery-Greene, Ohio wage area (AC-166).

62. Wage Schedule (Wage Change) for the Madison, Alabama wage area (AC-105).

63. Wage Schedule (Wage Change) for the Lake, Illinois wage area (AC-145).

64. Wage Schedule (Wage Change) for the Douglas-Sarpy, Nebraska wage area (AC-149).

65. Wage Schedule (Wage Change) for the Leavenworth, Kansas/Jackson-Johnson, Missouri wage area (AC-151).

66. Wage Schedule (Wage Change) for the St. Clair, Illinois wage area (AC-157).

67. Survey Specifications for the Grand Forks, North Dakota wage area (AC-017).

68. Survey Specifications for the Davis-Weber-Salt Lake, Utah wage area (AC-018).

69. Wage Schedule (Full Scale) for the McLennan, Texas wage area (AC-022).

70. Wage Schedule (Full Scale) for the Jefferson, New York wage area (AC-101).

71. Wage Schedule (Full Scale) for the Orange, New York wage area (AC-103).

72. Wage Schedule (Full Scale) for the Macomb, Michigan wage area (AC-162).

73. Wage Schedule (Full Scale) for the Niagara, New York wage area (AC-163).

74. Wage Schedule (Wage Change) for the Cumberland, Pennsylvania wage area (AC-092).

75. Wage Schedule (Wage Change) for the York, Pennsylvania wage area (AC-093).

76. Wage Schedule (Wage Change) for the Christian, Kentucky/Montgomery, Tennessee wage area (AC-099).

77. Wage Schedule (Wage Change) for the Charleston-South Carolina wage area (AC-120).

78. Wage Schedule (Wage Change) for the San Juan-Guaynabo, Puerto Rico wage area (AC-155).

79. Wage Schedule (Full Scale) for the Orleans, Louisiana wage area (AC-006).

80. Wage Schedule (Full Scale) for the Bell, Texas wage area (AC-028).

81. Wage Schedule (Full Scale) for the Curry, New Mexico wage area (AC-030).

82. Wage Schedule (Full Scale) for the Taylor, Texas wage area (AC-031).

83. Wage Schedule (Full Scale) for the Tom Green, Texas wage area (AC-032).

84. Wage Schedule (Full Scale) for the Cobb, Georgia wage area (AC-034).

85. Wage Schedule (Full Scale) for the Columbus, Georgia wage area (AC-067).

86. Wage Schedule (Wage Change) for the Pennington, South Dakota wage area (AC-086).

87. Wage Schedule (Wage Change) for the Nueces, Texas wage area (AC-115).

88. Wage Schedule (Wage Change) for the Bexar, Texas wage area (AC-117).

89. Wage Schedule (Wage Change) for the Anchorage, Alaska wage area (AC-118).

90. Wage Schedule (Wage Change) for the Kitsap, Washington wage area (AC-142).

91. Wage Schedule (Wage Change) for the Dallas, Texas wage area (AC-152).

92. Wage Schedule (Wage Change) for the Tarrant, Texas wage area (AC-156).

93. Wage Schedule (Full Scale) for the Grand Forks, North Dakota wage area (AC-017).

94. Wage Schedule (Full Scale) for the Davis-Weber-Salt Lake, Utah wage area (AC-018).

95. Wage Schedule (Full Scale) for the Ada-Elmore, Idaho wage area (AC-038).

96. Wage Schedule (Full Scale) for the Cascade, Montana wage area (AC-040).

97. Wage Schedule (Full Scale) for the Spokane, Washington wage area (AC-043).

98. Wage Schedule (Wage Change) for the Arapahoe, Colorado wage area (AC-084).

99. Wage Schedule (Wage Change) for the El Paso, Colorado wage area (AC-085).

100. Wage Schedule (Wage Change) for the Laramie, Wyoming wage area (AC-087).

101. Wage Schedule (Wage Change) for the New London, Connecticut wage area (AC-136).

102. Wage Schedule (Wage Change) for the Snohomish, Washington wage area (AC-141).

103. Wage Schedule (Wage Change) for the Pierce, Washington wage area (AC-143).

104. Wage Schedule (Wage Change) for the Newport, Rhode Island wage area (AC-167).

105. Survey Specifications for the Washoe-Churchill, Nevada wage area (AC-011).

106. Survey Specifications for the Bay, Florida wage area (AC-063).

107. Survey Specifications for the Clark, Nevada wage area (AC-140).

Reviewing survey results and/or survey specifications for the following Appropriated Fund areas:

108. Survey Specifications for the Savannah, Georgia wage area (AC-042).

109. Survey Specifications for the Waco, Texas wage area (AC-137).

110. Wage Schedule (Full Scale) for the Denver, Colorado wage area (AC-022).

111. Wage Schedule (Full Scale) for the Jacksonville, Florida wage area (AC-030).

112. Wage Schedule (Full Scale) for the Miami, Florida wage area (AC-031).

113. Wage Schedule (Full Scale) for the Detroit, Michigan wage area (AC-070).

114. Wage Schedule (Full Scale) for the Southeastern North Carolina wage area (AC-101).

115. Wage Schedule (Full Scale) for the Cincinnati, Ohio wage area (AC-104).

116. Wage Schedule (Full Scale) for the Columbus, OH wage area (AC-106).

117. Wage Schedule (Full Scale) for the Narragansett Bay, Rhode Island wage area (AC-118).

118. Wage Schedule (Wage Change) for the Birmingham, Alabama wage area (AC-002).

119. Wage Schedule (Wage Change) for the Southern Colorado wage area (AC-023).

120. Wage Schedule (Wage Change) for the Hagerstown-Martinsburg-Chambersburg, MD wage area (AC-067).

121. Wage Schedule (Wage Change) for the New York, New York wage area (AC-094).

122. Wage Schedule (Wage Change) for the Dayton, Ohio wage area (AC-107).

123. Wage Schedule (Wage Change) for the Harrisburg, Pennsylvania wage area (AC-114).

124. Wage Schedule (Wage Change) for the Wyoming wage area (AC-150).

125. Survey Specifications for the Augusta, Georgia wage area (AC-038).

126. Survey Specifications for the Macon, Georgia wage area (AC-041).

127. Survey Specifications for the Southeastern Washington-Eastern Oregon wage area (AC-144).

128. Special Pay—Jacksonville, Florida Special Rates.

129. Special Pay—Narragansett Bay, RI Special Rates.

130. Survey Specifications for the Duluth, Minnesota wage area (AC-074).

131. Survey Specifications for the San Antonio, Texas wage area (AC-135).

132. Survey Specifications for the Milwaukee, Wisconsin wage area (AC-148).

133. Special Pay—Southeast Power Rate.

134. Wage Schedule (Full Scale) for the Fresno, California wage area (AC-012).

135. Wage Schedule (Full Scale) for the Sacramento, California wage area (AC-014).

136. Wage Schedule (Full Scale) for the Stockton, California wage area (AC-020).

137. Wage Schedule (Full Scale) for the Louisville, Kentucky wage area (AC-059).

138. Wage Schedule (Full Scale) for the Jackson, Mississippi wage area (AC-078).

139. Wage Schedule (Full Scale) for the Meridian, Mississippi wage area (AC-079).

140. Wage Schedule (Full Scale) for the Eastern Tennessee wage area (AC-123).

141. Wage Schedule (Wage Change) for the Salinas-Monterey, California wage area (AC-015).

142. Wage Schedule (Wage Change) for the Lexington, Kentucky wage area (AC-058).

143. Wage Schedule (Wage Change) for the Northern Mississippi wage area (AC-077).

144. Wage Schedule (Wage Change) for the Rochester, New York wage area (AC-096).

145. Wage Schedule (Wage Change) for the Memphis, Tennessee wage area (AC-124).

146. Wage Schedule (Wage Change) for the Nashville, Tennessee wage area (AC-125).

147. Survey Specifications for the Boise, Idaho wage area (AC-045).

148. Survey Specifications for the Utah wage area (AC-139).

149. Survey Specifications for Spokane, Washington wage area (AC-145).

150. Survey Specifications for Puerto Rico wage area (AC-151).

151. Special Pay—Fresno, California Special Rates.

152. Special Pay—Stockton, California Special Rates.

153. Special Pay—Northern Mississippi Special Rates.

154. Special Pay—Louisville, Kentucky Special Rates.

155. Special Pay—Salinas-Monterey, California Special Rates.

156. Survey Specifications for the Dothan, Alabama wage area (AC-003).

157. Survey Specifications for the Pittsburgh, Pennsylvania wage area (AC-116).

158. Wage Schedule (Full Scale) for the Northeastern Arizona wage area (AC-008).

159. Wage Schedule (Full Scale) for the Phoenix, Arizona wage area (AC-009).

160. Wage Schedule (Full Scale) for the Tucson, Arizona wage area (AC-010).

161. Wage Schedule (Full Scale) for the Minneapolis-St Paul, Minnesota wage area (AC-075).

162. Wage Schedule (Full Scale) for the Albany-Schenectady-Troy, New York wage area (AC-091).

163. Wage Schedule (Full Scale) for the Northern New York wage area (AC-095).

164. Wage Schedule (Full Scale) for the West Virginia wage area (AC-146).

165. Wage Schedule (Wage Change) for the Reno, Nevada wage area (AC-086).

166. Wage Schedule (Wage Change) for the Syracuse-Utica-Rome, New York wage area (AC-097).

167. Wage Schedule (Wage Change) for the North Dakota wage area (AC-103).

168. Wage Schedule (Wage Change) for the Houston-Galveston-Texas City, Texas wage area (AC-133).

169. Survey Specifications for the Washington, District of Columbia wage area (AC-027).

170. Survey Specifications for the Colombus, Georgia wage area (AC-040).

171. Survey Specifications for the Charlotte, North Carolina wage area (AC-100).

172. Survey Specifications for the Oklahoma City, Oklahoma wage area (AC-109).

173. Special Pay—Pacific Northwest Special Rates.

174. Special Pay—Northern New York Special Rates.

175. Survey Specifications for the Albany, Georgia wage area (AC-036).

176. Survey Specifications for the Northwestern Michigan wage area (AC-071).

177. Survey Specifications for the Tulsa, Oklahoma wage area (AC-111).

178. Survey Specifications for the Scranton-Wilkes Barre, Pennsylvania wage area (AC-117).

179. Wage Schedule (Full Scale) for the New Haven-Hartford, Connecticut wage area (AC-024).

180. Wage Schedule (Full Scale) for the Albuquerque, New Mexico wage area (AC-089).

181. Wage Schedule (Full Scale) for the Texarkana, Texas wage area (AC-136).

182. Wage Schedule (Wage Change) for the Anniston-Gadsden, Alabama wage area (AC-001).

183. Wage Schedule (Wage Change) for the Huntsville, Alabama wage area (AC-004).

184. Wage Schedule (Wage Change) for the Tampa-St. Petersburg, Florida wage area (AC-035).

185. Wage Schedule (Wage Change) for the Lake Charles-Alexandria, Louisiana wage area (AC-060).

186. Wage Schedule (Wage Change) for the El Paso, Texas wage area (AC-132).

187. Survey Specifications for the San Francisco, California wage area (AC-018).

188. Wage Schedule (Full Scale) for the Cleveland, Ohio wage area (AC-105).

189. Survey Specifications for the San Diego, California wage area (AC-017).

190. Survey Specifications for the Pensacola, Florida wage area (AC-034).

191. Survey Specifications for the Des Moines, Iowa wage area (AC-054).

192. Survey Specifications for the Buffalo, New York wage area (AC-092).

193. Wage Schedule (Full Scale) for the Atlanta, Georgia wage area (AC-037).

194. Wage Schedule (Wage Change) for the Shreveport, Louisiana wage area (AC-062).

195. Wage Schedule (Wage Change) for the Central North Carolina wage area (AC-099).

196. Wage Schedule (Wage Change) for the Columbia, South Carolina wage area (AC-120).

197. Wage Schedule (Wage Change) for the Norfolk-Portsmouth-Newport News-Hampton, Virginia wage area (AC-140).

198. Survey Specifications for the Central Illinois wage area (AC-046).

199. Special Pay—Washington, District of Columbia Special Rates.

200. Wage Schedule (Full Scale) for the Savannah, Georgia wage area (AC-042).

201. Wage Schedule (Full Scale) for the Western Texas wage area (AC-127).

202. Wage Schedule (Full Scale) for the Waco, Texas wage area (AC-137).

203. Wage Schedule (Wage Change) for the Augusta, Maine wage area (AC-063).

204. Survey Specifications for the Cocoa Beach-Melbourne, Florida wage area (AC-028).

205. Survey Specifications for the Eastern South Dakota wage area (AC-121).

206. Special Pay—Western Texas Special Rates.

207. Wage Schedule (Full Scale) for the Augusta, Georgia wage area (AC-038).

208. Wage Schedule (Full Scale) for the Macon, Georgia wage area (AC-041).

209. Wage Schedule (Full Scale) for the Southeastern Washington-Eastern Oregon wage area (AC-144).

210. Wage Schedule (Wage Change) for the Hawaii wage area (AC-044).

211. Wage Schedule (Wage Change) for the Central and Western Massachusetts wage area (AC-069).

212. Wage Schedule (Wage Change) for the Southwestern Wisconsin wage area (AC-149).

213. Survey Specifications for the Davenport-Rock Island-Moline, Iowa wage area (AC-053).

214. Survey Specifications for the Southwestern Michigan wage area (AC-073).

215. Survey Specifications for the Philadelphia, Pennsylvania wage area (AC-115).

216. Special Pay—Macon, Georgia Special Rates.

217. Wage Schedule (Full Scale) for the Duluth, Minnesota wage area (AC-074).

218. Wage Schedule (Full Scale) for the San Antonio, Texas wage area (AC-135).

219. Wage Schedule (Full Scale) for the Milwaukee, Wisconsin wage area (AC-148).

220. Wage Schedule (Wage Change) for the Central and Northern Maine wage area (AC-064).

221. Wage Schedule (Wage Change) for the Asheville, North Carolina wage area (AC-098).

222. Wage Schedule (Wage Change) for the Southwestern Oregon wage area (AC-113).

223. Wage Schedule (Wage Change) for the Austin, Texas wage area (AC-129).

224. Wage Schedule (Wage Change) for the Corpus Christi, Texas wage area (AC-130).

225. Survey Specifications for the Topeka, Kansas wage area (AC-056).

226. Survey Specifications for the Wichita, Kansas wage area (AC-057).

227. Survey Specifications for the Biloxi, Mississippi wage area (AC-076).

228. Survey Specifications for the Roanoke, Virginia wage area (AC-142).

229. Special Pay—Southwestern Oregon Special Rates.

230. Wage Schedule (Full Scale) for the Boise, Idaho wage area (AC-045).

231. Wage Schedule (Full Scale) for the Utah wage area (AC-139).

232. Wage Schedule (Full Scale) for the Spokane, Washington wage area (AC-145).

233. Wage Schedule (Full Scale) for the Puerto Rico wage area (AC-151).

234. Wage Schedule (Wage Change) for the Alaska wage area (AC-007).

235. Wage Schedule (Wage Change) for the Montana wage area (AC-083).

236. Wage Schedule (Wage Change) for the Charleston, South Carolina wage area (AC-119).

237. Special Pay—Puerto Rico Special Rates.

238. Any items needing further clarification from this agenda may be discussed during future scheduled meetings.

Closing Remarks by Chair, Mr. Eric Clayton.

Meeting Accessibility: Pursuant to 5 U.S.C. 552b(c)(4), the DoD has determined that the meeting shall be closed to the public. The USD(P&R), in consultation with the DoD Office of General Counsel, has determined in writing that each of these meetings is likely to disclose trade secrets and commercial or financial information obtained from a person and privileged or confidential.

Due to negative impacts to pay for Federal Wage System employees that directly support national defense the 15-day notice period was unable to be met. The delay was unavoidable for the lead agency and additional delays would have increased the severity of negative implications for all agencies that employ Federal Wage System employees.

Due to circumstances, beyond the control of the Designated Officer and the Department of Defense, the Department of Defense Wage Committee was unable to provide public notification required by 41 CFR 102-3.150(a) concerning its November 25, 2025, meeting. Accordingly, the Advisory Committee Management Officer for the Department of Defense, pursuant to 41 CFR 102-3.150(b), waives the 15-calendar day notification requirement.

Dated: January 29, 2026.
Stephanie J. Bost,
Alternate OSD Federal Register Liaison Officer, Department of Defense.

[FR Doc. 2026-02069 Filed 1-30-26; 8:45 am]

BILLING CODE 6001-FR-P